GENERAL SERVICES ADMINISTRATION

[Notice-MY-2021-01; Docket No. 2021-0002; Sequence No. 22]

Office of Shared Solutions and Performance Improvement (OSSPI); Chief Data Officers Council (CDO); Notification of Upcoming Public Meeting

AGENCY: Office of Government-wide Policy, General Services Administration (GSA).

ACTION: Meeting notice.

SUMMARY: The Federal Chief Data Officers Council (CDO Council) is having a public meeting which will introduce the public to CDO Council priorities, first year accomplishments and working group updates. Additionally, the CDO Council will host panel discussions of Federal data leaders. The meeting will also share information about Evidence Act Councils data collaboration efforts across the Federal government. The CDO Council will introduce a Request for Information (RFI) for the public to provide input on key questions to support the council's mission and focus areas. Responses to this RFI will inform the Council's efforts and will be shared with the relevant groups in the Council.

DATES: The CDO Council Public meeting will be held virtually on Thursday, October 14, 2021, from 1:00 p.m. to 4:30 p.m. Eastern time (ET).

ADDRESSES: Interested individuals must register to attend via the CDO Council website. To register for the meeting, please visit https://www.cdo.gov/public-meeting. Additional information about the public meeting, including meeting materials and the agenda, will be available on-line as it becomes available. The meeting will be recorded and the recording will be posted online on https://www.cdo.gov/.

FOR FURTHER INFORMATION CONTACT: Ken Ambrose and Shenaye Holmes, Senior Advisors, Office of Shared Solutions and Performance Improvement, Office of Government-wide Policy, General Services Administration, 1800 F Street NW, (Mail-code: MY), Washington, DC 20405, at 202-215-7330 (Ken Ambrose) and 202-213-2922 (Shenaye Holmes), or cdocstaff@gsa.gov.

SUPPLEMENTARY INFORMATION:

CDO Council Background

The Federal Chief Data Officers (CDO) Council was established by the Foundations for Evidence-Based Policymaking Act (Pub. L. 115-435) which also requires all federal agencies to appoint a CDO. The Council's vision is to improve government mission achievement and increase the benefits to the Nation through improvement in the management, use, protection, dissemination, and generation of data in government decision-making and operations. The CDO Council has over 80 member CDOs from across the Federal government, as well as representatives from the Office of Management and Budget, and other key councils and committees. The CDO Council has working groups that focus on critical topics as well as committees that help Federal agencies connect and collaborate. The CDO Council also works with other interagency councils on data related topics and activities. The CDO Council engages with the public and private users of Government data to improve data practices and access to data assets.

The CDO Council public meeting is for any member of the public or user of Federal government data. As a result of this public meeting, the public will learn about the CDO Council efforts to expand the strategic use of data by Federal agencies, how the Federal government is working to improve access to data assets, and how cross-agency councils are collaborating on data challenges. The public will also learn how data plays a critical role in this Administration's priorities.

Procedures for Attendance and Public Comment

Register to attend the public meeting via the CDO Council website at https://www.cdo.gov/public-meeting. Attendees must register by 5:00 p.m. ET, on Thursday, October 7, 2021. (GSA will be unable to provide assistance to any attendee experiencing technical difficulties during the meeting.)

Accomodations

To request accommodation of a disability, please contact cdocstaff@gsa.gov no later than seven (7) calendar days prior to the meeting to allow as much time as possible to process your request.

Background

The Chief Data Officers (CDO) Council was established in accordance with the requirements of the Foundations for Evidence-Based Policymaking Act of 2018 (Pub. L. 115-435). The Council's vision is to improve government mission achievement and increase the benefits to the Nation through improvement in the management, use, protection, dissemination, and generation of data in government decision-making and operations.

October 14, 2021 Meeting Agenda

• Call to Order and Logistics

• Welcome from the Chief Data Officers (CDO) Council Chair

• Welcome from the Office of Management Budget (OMB)

• CDO Council Introduction, Priorities, Accomplishments

• Panel of Working Group Leaders

• Panel of CFO Act and Non-CFO Act Chief Data Officers

• OMB Data Priorities

• Evidence Act Councils Data Collaboration Discussion

• Introduction to the Request for Information (RFI)

• Closing Remarks

Ken Ambrose,
Senior Advisor CDO Council, Office of Shared Solutions and Performance Improvement, General Services Administration.
Shenaye Holmes,
Senior Advisor CDO Council, Office of Shared Solutions and Performance Improvement, General Services Administration.

[FR Doc. 2021-19227 Filed 9-3-21; 8:45 am]

BILLING CODE 6820-14-P